DEPARTMENT OF COMMERCE

International Trade Administration

[A-520-807]

Circular Welded Carbon-Quality Steel Pipe From the United Arab Emirates: Final Results of Antidumping Duty Administrative Review, 2020-2021; Correction

AGENCY: Enforcement and Compliance, International Trade Administration, Department of Commerce.

ACTION: Notice; correction.

SUMMARY: On May 4, 2023, the U.S. Department of Commerce (Commerce) inadvertently published duplicate copies of a Federal Register notice. This notice serves as a notification of, and correction to, this inadvertent duplicate publication.

FOR FURTHER INFORMATION CONTACT: Benjamin A. Luberda or Alice Maldonado, AD/CVD Operations, Office II, Enforcement and Compliance, International Trade Administration, U.S. Department of Commerce, 1401 Constitution Avenue NW, Washington, DC 20230; telephone: (202) 482-2185 or (202) 482-4682, respectively.

SUPPLEMENTARY INFORMATION:

Correction

Commerce published in the Federal Register of May 4, 2023, in FR Doc 2023-09464, on page 28483, in the second column, a notice entitled, “Circular Welded Carbon-Quality Steel Pipe from the United Arab Emirates: Final Results of Antidumping Duty Administrative Review, 2020-2021.” Commerce has discovered that this notice was also inadvertently published to the Federal Register on May 4, 2023, in FR Doc 2023-09422, on page 28498, in the second column. The inadvertent duplicate publication of this notice does not constitute redetermination of this proceeding. This notice serves as a notification of, and correction to, this inadvertent duplicate publication.

Dated: May 8, 2023.
Lisa W. Wang,
Assistant Secretary for Enforcement and Compliance.

[FR Doc. 2023-10147 Filed 5-11-23; 8:45 am]

BILLING CODE 3510-DS-P